DEPARTMENT OF ENERGY

Federal Energy Regulatory Commission

Combined Notice of Filings

Take notice that the Commission has received the following Natural Gas Pipeline Rate and Refund Report filings:

Filings Instituting Proceedings

Docket Numbers: RP13-375-000.

Applicants: CenterPoint Energy Gas Transmission Comp.

Description: CEGT LLC—NRNCA Update Filing to be effective 1/6/2013.

Filed Date: 12/6/12.

Accession Number: 20121206-5035.

Comments Due: 5 p.m. ET 12/18/12.

Docket Numbers: RP13-376-000.

Applicants: Trailblazer Pipeline Company LLC.

Description: Parent Company Name Change to Tallgrass to be effective 12/7/2012.

Filed Date: 12/6/12.

Accession Number: 20121206-5043.

Comments Due: 5 p.m. ET 12/18/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1068-001.

Applicants: Tres Palacios Gas Storage LLC.

Description: Tres Palacios Gas Storage LLC—Compliance with Order Accepting 587-V Filing to be effective 12/1/2012.

Filed Date: 12/6/12.

Accession Number: 20121206-5036.

Comments Due: 5 p.m. ET 12/18/12.

Docket Numbers: RP12-1128-001.

Applicants: TWP Pipeline LLC.

Description: Compliance NAESB Filing Updated to be effective 12/1/2012.

Filed Date: 12/6/12.

Accession Number: 20121206-5124.

Comments Due: 5 p.m. ET 12/18/12.

Docket Numbers: RP12-15-004.

Applicants: Gas Transmission Northwest LLC.

Description: Compliance to RP12-15-000 Pressure Commitments to be effective 11/11/2011.

Filed Date: 12/6/12.

Accession Number: 20121206-5128.

Comments Due: 5 p.m. ET 12/18/12.

Docket Numbers: RP12-15-005.

Applicants: Gas Transmission Northwest LLC.

Description: Compliance to RP12-15-003 Reservation Charge Credits to be effective 1/12/2012.

Filed Date: 12/6/12.

Accession Number: 20121206-5139.

Comments Due: 5 p.m. ET 12/18/12.

Docket Numbers: RP13-365-001.

Applicants: TC Offshore LLC.

Description: RP13-365-000 Amendment to be effective 12/3/2012.

Filed Date: 12/6/12.

Accession Number: 20121206-5034.

Comments Due: 5 p.m. ET 12/18/12.

Docket Numbers: RP13-47-001.

Applicants: WBI Energy Transmission, Inc.

Description: Compliance with Requirements of Order No. 587-V to be effective 12/1/2012.

Filed Date: 12/6/12.

Accession Number: 20121206-5056.

Comments Due: 5 p.m. ET 12/18/12.

Docket Numbers: RP13-115-001.

Applicants: ANR Storage Company.

Description: RP13-115-000 NAESB Compliance to be effective 12/1/2012.

Filed Date: 12/7/12.

Accession Number: 20121207-5004.

Comments Due: 5 p.m. ET 12/19/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated December 7, 2012.
Nathaniel J. Davis, Sr.,
Deputy Secretary.

[FR Doc. 2012-30284 Filed 12-14-12; 8:45 am]

BILLING CODE 6717-01-P